DEPARTMENT OF COMMERCE

National Oceanic and Atmospheric Administration

50 CFR Part 648

[Docket No. 060606150-6240-02; I.D. 030107A]

Magnuson-Stevens Fishery Conservation and Management Act Provisions; Fisheries of the Northeastern United States; Northeast Multispecies Fishery; Modification of the Gear Restrictions and Georges Bank Yellowtail Flounder Trip Limits for the U.S./Canada Management Area

AGENCY: National Marine Fisheries Service (NMFS), National Oceanic and Atmospheric Administration (NOAA), Commerce.

ACTION: Temporary rule; gear restriction, trip limit.

SUMMARY: NMFS announces that the Administrator, Northeast (NE) Region, NMFS (Regional Administrator), is eliminating the haddock separator trawl requirement, which was temporarily implemented on June 19, 2006, for all limited access NE multispecies vessels fishing with trawl gear on a NE multispecies day-at-sea (DAS), and is reducing from 10,000 lb (4,536 kg) to 5,000 lb (2,268 kg) the trip limit for Georges Bank (GB) yellowtail flounder for all NE multispecies vessels fishing without a haddock separator trawl on a NE multispecies DAS in the Eastern U.S./Canada Area. This temporary reduction in the GB yellowtail flounder trip limit is effective through April 30, 2007. A projection based on available catch and discard information indicates that removal of the haddock separator trawl requirement and establishment of a 5,000-lb (2,268 kg) trip limit for GB yellowtail flounder in the Eastern U.S./Canada Area will help vessels achieve the total allowable catch (TAC) limits established for the shared U.S./Canada stocks of cod, haddock, and yellowtail flounder while preventing the GB yellowtail flounder TAC from being exceeded before the end of the 2006 fishing year on April 30, 2007. This action is therefore intended to provide increased opportunities to harvest the healthy Eastern GB haddock TAC and maximize the harvest of the GB yellowtail flounder. This action is authorized by the regulations implementing Framework 42 to the NE Multispecies Fishery Management Plan (FMP) under the authority of the Magnuson-Stevens Fishery Conservation and Management Act (Magnuson-Stevens Act).

DATES: Effective March 5, 2007, through April 30, 2007.

FOR FURTHER INFORMATION CONTACT: Mark Grant, Fishery Management Specialist, (978) 281-9145, fax (978) 281-9135.

SUPPLEMENTARY INFORMATION: The U.S. portion of the U.S./Canada Area TACs for GB cod, GB haddock, and GB yellowtail flounder for the 2006 fishing year (May 1, 2006-April 30, 2007) were specified at 374 mt, 7,480 mt, and 2,070 mt, respectively, on April 28, 2006 (71 FR 25095). Pursuant to § 648.85(a)(3)(iv)(E), once the available TAC for GB cod, GB haddock, or GB yellowtail flounder is projected to be caught, the Regional Administrator is required to close the Eastern U.S./Canada Area to all NE multispecies DAS vessels for the remainder of the fishing year. The FMP requires trawl vessels issued a valid limited access NE multispecies permit and fishing under a NE multispecies DAS in the Eastern U.S./Canada Area to fish with either a haddock separator trawl or a flounder net. Prohibitions governing the gear requirements for the U.S./Canada Management Area are found at § 648.14(a)(132). The regulations at § 648.85(a)(3)(iv)(D) authorize the Regional Administrator to modify certain measures governing the harvesting of fish from the U.S./Canada Management Area, including gear requirements and trip limits, to prevent over-harvesting or under-harvesting the U.S. portion of the shared U.S./Canada TAC allocations. On June 19, 2006, (71 FR 35199) the Regional Administrator required, on a temporary basis, that all limited access NE multispecies vessels fishing on a NE multispecies DAS with trawl gear in the Eastern U.S./Canada Area use a haddock separator trawl to prevent over-harvesting of the GB cod TAC under the authority granted by the regulations at § 648.85(a)(3)(iv)(D). At that time, based upon Vessel Monitoring System (VMS) reports and other information available, the Regional Administrator projected that the 2006 Eastern U.S./Canada Area GB cod TAC would be caught before the end of the 2006 fishing year, resulting in the premature closure of the Eastern U.S./Canada Area and the potential under-harvest of the available TACs for GB haddock and GB yellowtail flounder during the 2006 fishing year. Based on that information, the Regional Administrator required that all limited access NE multispecies vessels fishing in the Eastern U.S./Canada Area under a NE multispecies DAS with trawl gear use a haddock separator trawl to reduce catch and discards of GB cod.

Based upon recent VMS reports and other available information, the Regional Administrator has projected that the current rates of harvest may result in the under-harvest of the available TACs for GB cod, GB haddock, and GB yellowtail flounder during the 2006 fishing year. Based on this information, effective March 5, 2007, through April 30, 2007, the Regional Administrator is removing the temporary requirement that all limited access NE multispecies vessels fishing in the Eastern U.S./Canada Area under a NE multispecies DAS with trawl gear use a haddock separator trawl. The required use of the haddock separator trawl requires that certain performance incentives (cod 100 lb (45 kg)/DAS up to 1,000 lb (454 kg)/trip; all flounders combined 100 lb (45 kg)/DAS up to 500 lb (227 kg)/trip; yellowtail flounder 25 lb (11 kg)/DAS up to 250 lb (113 kg)/trip; white hake 100 lb (45 kg)/DAS up to 1,000 lb (454 kg)/trip, and all skates combined 500 lb (227 kg)/trip) be adhered to. This requirement has restricted vessels from more fully harvesting the GB yellowtail flounder TAC. Removal of the haddock separator trawl requirement allows vessels to fish with either a haddock separator trawl or a flounder net. NE multispecies vessels may elect to continue using a haddock separator trawl rather than a flounder trawl net, but will be restricted to the gear performance incentives (trip limits) associated with the haddock separator trawl. Vessels electing to fish with a flounder net will be subject to the current trip limits with the exception noted below. The Western U.S./Canada Area is unaffected by this action.

To reduce the risk of a derby fishery for GB yellowtail flounder and reduce the likelihood of attaining the GB yellowtail flounder TAC prior to the end of the 2006 fishing year, resulting in the premature closure of the Eastern U.S./Canada Area and potential under-harvest of the GB cod and GB haddock TACs, the Regional Administrator is reducing from 10,000 lb (4,536 kg) to 5,000 lb (2,268 kg) the trip limit for GB yellowtail flounder for all limited access NE multispecies DAS vessels, fishing without a haddock separator trawl, when declaring into the Eastern U.S./Canada Area, effective March 5, 2007, through April 30, 2007. For non-trawl gear vessels, this is a reduction from the current 10,000-lb (4,536-kg) trip limit.

Classification

This action is authorized by 50 CFR part 648 and is exempt from review under Executive Order 12866.

Pursuant to 5 U.S.C. 553(b)(B), the Assistant Administrator (AA) finds good cause to waive prior notice and opportunity for public comment for this action, because notice and comment would be impracticable and contrary to the public interest. The regulations at § 648.85(a)(3)(iv)(D) grant the Regional Administrator the authority to modify gear requirements in the U.S./Canada Management Area and to adjust the GB yellowtail flounder trip limit to prevent over-harvesting or under-harvesting the GB yellowtail flounder TAC allocation. This action would remove the requirement that all NE multispecies DAS vessels fishing with trawl gear use a haddock separator trawl when fishing in the Eastern U.S./Canada Area (i.e., vessels will be allowed the use of a flounder trawl net or a haddock separator trawl net). Removing this restriction will provide additional opportunities to harvest the healthy Eastern GB haddock stock and maximize the harvest of the GB yellowtail flounder TAC specified for the Eastern U.S./Canada Area during the 2006 fishing year. Given that approximately 30 percent of the GB yellowtail flounder TAC remains unharvested and the 2006 fishing year ends on April 30, 2007, the time necessary to provide for prior notice, opportunity for public comment, or delayed effectiveness would prevent the agency from helping to ensure that the 2006 TAC for GB yellowtail flounder will be fully harvested.

Reducing the GB yellowtail flounder trip limit from the current 10,000 lb (4,536 kg)/ trip to 5,000 lb (2,268 kg)/ trip for all limited access NE multispecies DAS vessels fishing in the Eastern U.S./Canada Area, when not fishing with a haddock separator trawl, is an ancillary measure necessary to help reduce the incentive for a derby fishery targeting GB yellowtail flounder in the Eastern U.S./Canada Area, and slow the harvest rate of GB cod and GB yellowtail flounder, while still allowing increased access to the relatively abundant Eastern GB haddock stock. Harvesting the GB yellowtail flounder TAC prior to the end of the 2006 fishing year would result in the premature closure of the Eastern U.S./Canada Area and could increase economic and social impacts to the industry beyond those analyzed for Amendment 13, because the full potential revenue from the available GB cod and GB haddock TACs in the U.S./Canada Management Area may not be realized.

For the reasons specified above, and because this action relieves a restriction, the AA finds good cause, pursuant to 5 U.S.C. 553(d)(3), to waive the entire 30-day delayed effectiveness period for this action. A delay in the effectiveness of the gear requirement and trip limit modifications in this rule would prevent the agency from achieving a better balance between its obligations to prevent the TACs from being exceeded and facilitating the harvest of fish at a level that approaches optimum yield. Any such delay could lead to the negative impacts to the fishing industry described above.

The rate of harvest of the GB yellowtail flounder TAC in the U.S./Canada Management Area is updated weekly on the internet at http://www.nero.noaa.gov. Accordingly, the public is able to obtain information that would provide at least some advanced notice of a potential action to provide additional opportunities to the NE multispecies industry to fully harvest the TAC for GB yellowtail flounder during the 2006 fishing year. Further, the potential for this action was considered and open to public comment during the development of Amendment 13 and Framework 42. Therefore, any negative effect the waiving of public comment and delayed effectiveness may have on the public is mitigated by these factors.

Authority: 16 U.S.C. 1801 et seq.

Dated: March 1, 2007.
Alan D. Risenhoover,
Director, Office of Sustainable Fisheries, National Marine Fisheries Service.

[FR Doc. 07-1067 Filed 3-2-07; 2:56 pm]

BILLING CODE 3510-22-S